DEPARTMENT OF HOMELAND SECURITY

Federal Emergency Management Agency

[Docket ID: FEMA-2024-0007; OMB No. 1660-0103]

Agency Information Collection Activities: Submission for OMB Review, Comment Request; Property Acquisition and Relocation for Open Space.

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. FEMA invites the general public to take this opportunity to comment on a revision of a currently approved information collection. In accordance with the requirements of the Paperwork Reduction Act of 1995, this notice seeks comments concerning the property acquisition and relocation for open space process as part of FEMA's administration of mitigation grants programs and the removal of five instruments from the inventory of this collection that are approved under other OMB Control Numbers.

DATES: Comments must be submitted on or before June 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Jennie Orenstein, Branch Chief, FEMA/Mitigation Directorate's Policy, Tools and Training Branch, at jennie.gallardy@fema.dhs.gov or (202) 212-4071.

SUPPLEMENTARY INFORMATION: On September 16, 2009, FEMA published a Final Rule on Property Acquisition and Relocation for Open Space (44 CFR part 80) that governs property acquisitions for FEMA's four Hazard Mitigation Assistance (HMA) grant programs, three of which, Pre-Disaster Mitigation, the Hazard Mitigation Grant Program, and the Safeguarding Tomorrow Revolving Loan Fund (RLF) program are authorized under the Robert T. Stafford Disaster Relief and Emergency Assistance Act of 1988 (Pub. L. 93-288, as amended) (42 U.S.C. 5133, 5170c, and 5135) and the fourth (Flood Mitigation Assistance) under Section 1366 of the National Flood Insurance Act (NFIA) of 1968 (Pub. L. 90-448, as amended) (42 U.S.C. 4104c). 44 CFR part 80 requires the collection of information from grant applicants to ensure the voluntary nature of the property acquisitions and to ensure that the property acquired remains in open space in perpetuity.

States, Federally-recognized Tribes (Tribes) and territories as applicants/recipients, per 44 CFR 80.5(b)(3), are responsible for collecting and reviewing applications for acquisition projects to ensure that the proposed activities comply with 44 CFR part 80. States, territories and Tribes must ensure that the property acquisition is voluntary in nature. The subapplication they submit to FEMA for proposed projects must include information to enable FEMA's determination of eligibility, technical feasibility, cost effectiveness, and environmental and historic preservation compliance (44 CFR 80.5(b)(4)). Per 44 CFR 80.5(b), once the property is acquired, States, territories and Tribes, as well as FEMA and the subrecipients, must enforce the terms of 44 CFR part 80 and the deed restrictions to ensure that the property remains committed to open space use in perpetuity. States, territories and Tribes must report on property compliance with open space requirements after the grant is awarded.

With this revision, FEMA is removing five instruments off the inventory for this information collection because each of these five instruments are approved for use in a different information collection with its own OMB Control Number. These five instruments will still be used but do not require to be approved for use by OMB twice.

This proposed information collection previously published in the Federal Register on February 14, 2024, at 89 FR 11310 with a 60-day public comment period. One public comment was received that is not germane to this information collection. The purpose of this notice is to notify the public that FEMA will submit the information collection abstracted below to the Office of Management and Budget for review and clearance.

Collection of Information

Title: Property Acquisition and Relocation for Open Space.

Type of Information Collection: Revision of a currently approved information collection.

OMB Number: 1660-0103.

FEMA Forms: FEMA Form FF-206-FY-21-124 (formerly 086-0-31), Statement of Voluntary Participation for Acquisition of Property for Purpose of Open Space.

Abstract: FEMA and State, Tribal and local recipients of FEMA mitigation grant programs will use the information collected to meet the Property Acquisition requirements to implement acquisition activities under the terms of grant agreements for acquisition and relocation activities. FEMA and State/local grant recipients will also use the information to monitor and enforce the open space requirements for all properties acquired with FEMA mitigation grants.

Affected Public: State, Local or Tribal Governments.

Estimated Number of Respondents: 573.

Estimated Number of Responses: 573.

Estimated Total Annual Burden Hours: 573.

Estimated Total Annual Respondent Cost: $34,254.

Estimated Respondents' Operation and Maintenance Costs: $0.

Estimated Respondents' Capital and Start-Up Costs: $0.

Estimated Total Annual Cost to the Federal Government: $425,794.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-11760 Filed 5-28-24; 8:45 am]

BILLING CODE 9111-BW-P